DEPARTMENT OF DEFENSE

48 CFR Part 208

[DFARS Case 2000-D005]

Defense Federal Acquisition Regulation Supplement; Federal Prison Industries Waiver Threshold

AGENCY: Department of Defense (DoD).

ACTION: Final rule.

SUMMARY: The Acting Director of Defense Procurement has issued a final rule amending the Defense Federal Acquisition Regulation Supplement (DFARS) to increase, from $25 to $250, the threshold at which DoD must request clearance from Federal Prison Industries (FPI) before purchasing FPI Schedule items from sources other than FPI, when delivery is required within 10 days.

EFFECTIVE DATE: March 16, 2000.

FOR FURTHER INFORMATION CONTACT: Ms. Melissa Rider, Defense Acquisition Regulations Council, PDUSD (AT&L) DP (DAR), IMD 3D139, 3062 Defense Pentagon, Washington, DC 20301-3062. Telephone (703) 602-4245; telefax (703) 602-0350. Please cite DFARS Case 2000-D005.

SUPPLEMENTARY INFORMATION:

A. Background

Subpart 8.6 of the Federal Acquisition Regulation (FAR) requires Federal agencies to obtain clearance from FPI before purchasing FPI Schedule items from sources other than FPI. FAR 8.606(e) provides an exception to the clearance requirement for orders of Schedule items totaling $25 or less that require delivery within 10 days. On January 24, 2000, FPI granted DoD further exception to the clearance requirement for orders totaling $250 or less that require delivery within 10 days. This final rule amends the DFARS to reflect the $250 threshold for DoD.

This rule was not subject to Office of Management and Budget review under Executive Order 12866, dated September 30, 1993.

B. Regulatory Flexibility Act

This final rule does not constitute a significant revision within the meaning of FAR 1.501 and Public Law 98-577 and publication for public comment is not required. However, DoD will consider comments from small entities concerning the affected DFARS subpart in accordance with 5 U.S.C. 610. Such comments should cite DFARS Case 2000-D005.

C. Paperwork Reduction Act

The Paperwork Reduction Act does not apply because the rule does not impose any information collection requirements that require the approval of the Office of Management and Budget under 44 U.S.C. 3501, et seq.

List of Subjects in 48 CFR Part 208

Government procurement.

Michele P. Peterson,
Executive Editor, Defense Acquisition Regulations Council.

Therefore, 48 CFR Part 208 is amended as follows:

1. The authority citation for 48 CFR Part 208 continues to read as follows:

Authority: 41 U.S.C. 421 and 48 CFR Chapter 1.

PART 208—REQUIRED SOURCES OF SUPPLIES AND SERVICES

2. Subpart 208.6 is added to read as follows:

Subpart 208.6—Acquisition from Federal Prison Industries, Inc.
Sec.
208.606 Exceptions.

208.606 Exceptions.

(e) DoD activities do not need an FPI clearance for orders of listed items totaling $250 or less than require delivery within 10 days.

[FR Doc. 00-6166 Filed 3-15-00; 8:45 am]

BILLING CODE 5000-04-M